DEPARTMENT OF THE INTERIOR

National Park Service

Notice of Inventory Completion: Alutiiq Museum and Archaeological Repository, Kodiak, AK

AGENCY: National Park Service, Interior.

ACTION: Notice.

Notice is here given in accordance with the Native American Graves Protection and Repatriation Act (NAGPRA), 25 U.S.C. 3003, of the completion of an inventory of human remains and associated funerary objects in the possession of Alutiiq Museum and Archaeological Repository, Kodiak, AK. The human remains and associated funerary objects were removed from Afognak Island and the City of Port Lions, AK.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Alutiiq Museum and Archaeological Repository professional staff in consultation with representatives of the Afognak Native Corporation; Native Village of Afognak (formerly the Village of Afognak); Koniag, Inc.; and Native Village of Port Lions.

In July and August of 1993, human remains representing a minimum of two individuals were removed from the Malina Creek site (49-AFG-00005) on northwestern Afognak Island, AK, by Dr. Richard Knecht, an archeologist, during an excavation on conveyed Native lands sponsored by the Afognak Native Corporation. At the conclusion of the excavation, the human remains were taken to the Kodiak Area Native Association's Alutiiq Culture Center for storage. In 1995, the human remains were transferred to the Alutiiq Museum and Archaeological Repository where they are currently stored (accession number AM24). The human remains were discovered during a collections storage improvement project in December of 2006. No known individuals were identified. The eight associated funerary objects are seven wooden planks and one wooden mask bangle.

Malina Creek is a large coastal village site that overlooks Shelikof Strait at the mouth of Malina Creek on the northwestern coast of Afognak Island in Alaska's Kodiak archipelago. More than 4 meters of cultural deposits indicate settlement during each of Kodiak's major cultural traditions - Ocean Bay, Kachemak and Koniag, and historic Alutiiq (Russian era). Based on the stratigraphic context of one of the burials it is reasonably believed that one individual is from the Early Koniag phase of the Koniag tradition. The other individual was removed from slumped deposits along the site's erosion face. Although the depth of this find is unknown, field notes from an adjacent pit test indicate that deposits in this area are prehistoric and that the majority date to the Koniag and Kachemak traditions. As such, the human remains are believed to be Native American and to be most closely affiliated with the contemporary Alutiiq people. Many archeologists believe that people of the Kachemak tradition are ancestral to people of the Koniag tradition who are the direct ancestors of contemporary Alutiiqs. Specifically, the human remains were recovered from an area of the archipelago traditionally used by members of the Native Village of Afognak (formerly the Village of Afognak) and Native Village of Port Lions.

In June of 1994, human remains representing a minimum of one individual were removed from an eroding bank near the City of Port Lions, AK, by Charles Kramer. Mr. Kramer gave the human remains to the Alaska State Troopers in July of 1994. The Alaska State Troopers sent the human remains to the State Office of History and Archaeology and subsequently relinquished control of and transferred the human remains to Kodiak Area Native Association's Alutiiq Culture Center in November 1994. In 1995, the human remains were transferred to the Alutiiq Museum and Archaeological Repository where they are currently stored (accession number AM40). No known individual was identified. No associated funerary objects are present.

Although the exact archeological site from which the human remains originated is not recorded, the findings of the state archeologist suggest that the human remains are those of a prehistoric person. Many archeologists believe that the region's cultural sequence represents a period of evolutionary growth over a 7,500 year period with the earliest colonizers evolving into the Alutiiq societies recorded at historic contact. As such, the human remains are reasonably believed to be Native American and most closely affiliated with the contemporary Native residents of the Kodiak archipelago, the Kodiak Alutiiq. Specifically, the human remains were recovered from an area of the archipelago traditionally used by members of the Native Village of Afognak (formerly the Village of Afognak) and Native Village of Port Lions.

Descendants of the Kodiak Alutiiq are members of the Afognak Native Corporation; Native Village of Afognak (formerly the Village of Afognak); Koniag, Inc.; and Native Village of Port Lions.

Officials of the Alutiiq Museum and Archaeological Repository have determined that, pursuant to 25 U.S.C. 3001 (9-10), the human remains described above represent the physical remains of three individuals of Native American ancestry. Officials of the Alutiiq Museum and Archaeological Repository also have determined that, pursuant to 25 U.S.C. 3001 (3)(A), the eight objects described above are reasonably believed to have been placed with or near individual human remains at the time of death or later as part of the death rite or ceremony. Lastly, officials of the Alutiiq Museum and Archaeological Repository have determined that, pursuant to 25 U.S.C. 3001 (2), there is a relationship of shared group identity that can be reasonably traced between the Native American human remains and associated funerary objects and the Afognak Native Corporation; Native Village of Afognak (formerly the Village of Afognak); Koniag, Inc.; and Native Village of Port Lions.

Representatives of any other Indian tribe that believes itself to be culturally affiliated with the human remains and associated funerary objects should contact Dr. Sven Haakanson, Jr., Executive Director, Alutiiq Museum and Archaeological Repository, 215 Mission Rd., Suite 101, Kodiak, AK 99615, telephone (907) 486-7004, before August 29, 2007. Repatriation of the human remains and associated funerary objects to the Afognak Native Corporation; Native Village of Afognak (formerly the Village of Afognak); Koniag, Inc.; and Native Village of Port Lions may proceed after that date if no additional claimants come forward.

The Alutiiq Museum and Archaeological Repository is responsible for notifying the Afognak Native Corporation; Native Village of Afognak (formerly the Village of Afognak); Koniag, Inc.; and Native Village of Port Lions that this notice has been published.

Dated: July 6, 2007.
Sherry Hutt,
Manager, National NAGPRA Program.

[FR Doc. E7-14583 Filed 7-27-07; 8:45 am]

BILLING CODE 4312-50-S